DEPARTMENT OF JUSTICE

[OMB Number 1105-0096]

Agency Information Collection Activities; Proposed eCollection eComments Requested; Extension Without Change of a Currently Approved Collection; Comments Requested: Sequestered Juror Information Form

AGENCY: U.S. Marshals Service, Department of Justice.

ACTION: 60-Day notice.

SUMMARY: The U.S. Marshals Service (USMS), Department of Justice (DOJ), will be submitting the following information collection request to the Office of Management and Budget (OMB) for review and approval in accordance with the Paperwork Reduction Act of 1995.

DATES: Comments are encouraged and will be accepted for 60 days until July 28, 2025.

FOR FURTHER INFORMATION CONTACT: If you have additional comments especially on the estimated public burden or associated response time, suggestions, or need a copy of the proposed information collection instrument with instructions or additional information, please contact Assistant Chief Karl Slazer/Management Support Division, US Marshals Service Headquarters, 1215 S Clark St., Ste. 10017, Arlington, VA 22202-4387, by telephone at 703-740-2316 or by email at karl.slazer@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The United States Marshals Service is responsible for ensuring the security of federal courthouses, courtrooms, and federal jurist. This information assists Marshals Service personnel in the planning of, and response to, potential security needs of the court and jurors during the course of proceedings.

Overview of This Information Collection

1. Type of Information Collection: Extension without change of a currently approved collection.

2. The Title of the Form/Collection: Sequestered Juror Information Form.

3. The agency form number, if any, and the applicable component of the Department sponsoring the collection: Form USM-523A.

4. Affected public who will be asked or required to respond, as well as the obligation to respond: Individuals or Households.

5. An estimate of the total number of respondents and the amount of time estimated for an average respondent to respond: An estimated 14 respondents will utilize the form, and it will take each respondent approximately 4 minutes to complete the form.

6. An estimate of the total annual burden (in hours) associated with the collection: The estimated annual public burden associated with this collection is 1 hour, which is equal to (14 (total # of annual responses) * 4 minutes = 56 minutes or 1 hour).

7. An estimate of the total annual cost burden associated with the collection, if applicable:

Total Burden Hours
Activity | Number of respondents | Frequency | Total annual responses | Time per response (min) | Total annual burden (hours)
Ex: Survey (individuals or households) | 14 | 1/annually | 14 | 4 | 1
Unduplicated Totals | 14 |  | 14 |  | 1

If additional information is required contact: Darwin Arceo, Department Clearance Officer, United States Department of Justice, Justice Management Division, Policy and Planning Staff, Two Constitution Square, 145 N Street NE, 4W-218, Washington, DC.

Dated: May 21, 2025.
Darwin Arceo,
Department Clearance Officer for PRA, U.S. Department of Justice.

[FR Doc. 2025-09519 Filed 5-27-25; 8:45 am]

BILLING CODE 4410-04-P